DEPARTMENT OF LABOR

Employment and Training Administration

[TA-W-41,956]

Stryker Howmedica Osteonics, Rutherford, New Jersey; Notice of Termination of Investigation

Pursuant to Section 221 of the Trade Act of 1974, an investigation was initiated on August 12, 2002 in response to a petition, which was filed by the company on behalf of workers at Stryker Howmedica Osteonics, Rutherford, New Jersey.

The petitioner has requested that the petition be withdrawn. Consequently, further investigation in this case would serve no purpose, and the investigation has been terminated.

Signed in Washington, DC this 11th day of September, 2002.
Linda G. Poole,
Certifying Officer, Division of Trade Adjustment Assistance.

[FR Doc. 02-24511 Filed 9-26-02; 8:45 am]

BILLING CODE 4510-30-P